INTERNATIONAL TRADE COMMISSION

[Investigation Nos. 701-TA-716-719 and 731-TA-1683-1687 (Final)]

Epoxy Resins From China, India, South Korea, Taiwan, and Thailand

Determinations

On the basis of the record ¹ developed in the subject investigations, the United States International Trade Commission (“Commission”) determines, pursuant to the Tariff Act of 1930 (“the Act”), that an industry in the United States is materially injured by reason of imports of epoxy resins from South Korea, Taiwan, and Thailand, provided for in subheading 3907.30.00 of the Harmonized Tariff Schedule of the United States, that have been found by the U.S. Department of Commerce (“Commerce”) to be sold in the United States at less than fair value (“LTFV”) and to be subsidized by the governments of South Korea and Taiwan.² The Commission further determines that imports of epoxy resins from China and India found by Commerce to be sold in the United States at LTFV and to be subsidized by the governments of China and India ³ are negligible and terminates the antidumping and countervailing duty investigations concerning China and India.

¹ The record is defined in § 207.2(f) of the Commission's Rules of Practice and Procedure (19 CFR 207.2(f)).

² 90 FR 14605, 14611, 14618, 14621, and 14623 (April 3, 2025).

³ 90 FR 14613, 14616, 14628, and 14636 (April 3, 2025).

Background

The Commission instituted these investigations effective April 3, 2024, following receipt of petitions filed with the Commission and Commerce by the U.S. Epoxy Resin Producers Ad Hoc Coalition which is comprised of Olin Corporation, Clayton, Missouri and Westlake Corporation, Houston, Texas. The final phase of the investigations was scheduled by the Commission following notification of preliminary determinations by Commerce that imports of epoxy resins from China, India, and Taiwan were subsidized within the meaning of section 703(b) of the Act (19 U.S.C. 1671b(b)) and that such products from China, India, South Korea, Taiwan, and Thailand were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on November 22, 2024 (89 FR 92719), as revised on December 11, 2024 (89 FR 99904). The Commission conducted its hearing on April 3, 2025. All persons who requested the opportunity were permitted to participate.

The Commission made these determinations pursuant to §§ 705(b) and 735(b) of the Act (19 U.S.C. 1671d(b) and 19 U.S.C. 1673d(b)). It completed and filed its determinations in these investigations on May 19, 2025. The views of the Commission are contained in USITC Publication 5619 (May 2025), entitled Epoxy Resins from China, India, South Korea, Taiwan, and Thailand: Investigation Nos. 701-TA-716-719 and 731-TA-1683-1687 (Final).

By order of the Commission.
Issued: May 19, 2025.
Lisa Barton,
Secretary to the Commission.

[FR Doc. 2025-09232 Filed 5-21-25; 8:45 am]

BILLING CODE 7020-02-P